DEPARTMENT OF ENERGY

Federal Energy Regulatory Commission

[Docket No. PL06-4-000]

Informal Staff Advice on Regulatory Requirements; Notice of New Docket Prefix “NL” and Guidelines for Filing Request for No-Action Letter

December 27, 2005.

On November 18, 2005, the Commission issued an Interpretive Order Regarding No-Action Letter Process ¹ in Docket PL06-4-000. Notice is hereby given that the Commission has established a new docket prefix “NL” to identify issuances related to No-Action Letters.

¹ Interpretive Order Regarding No-Action Letter Process, 113 FERC ¶ 61,174 (2005).

The prefix will have the format NLFY-NNN-000, where “FY” stands for the fiscal year in which the request for No-Action Letter was received by the Commission and “NNN” is a sequential number.

The Commission is also issuing with this notice guidelines for filing requests for No-Action Letter. The guidelines are available on http://www.ferc.gov under the Documents and Filing tab.

Magalie R. Salas,
Secretary.

Filing Guidelines for Requests for No-Action Letter

What to Submit: Submit one original and two paper copies of the request, along with a text-searchable file (or files) on a 3¼” diskette or CD-ROM. Each page of the request and any supporting information or documents should include a header or footer stating “Request for No-Action Letter.”

Contact Info: Each request must include the name, address, telephone number, and e-mail address of the person to whom the response should be directed.

Where to Submit: Send your request to: Federal Energy Regulatory Commission, Office of the General Counsel, Room 10A-01, ATTN: Request for No-Action Letter, 888 First Street, NE., Washington, DC 20426.

Use express mail or courier services to submit a Request for No-Action Letter to FERC. Regular mail sent through the US Postal Service to the Commission is subject to a 7-10 day delay for scanning. The scanning process also may destroy any diskettes and CD-ROMs included in the submittal.

The Commission determined that, at least initially, a Request for No-Action Letter is non-public material. The Commission's eFiling system is not ready to accept non-public material at this time and therefore, it is not available for the filing of requests for No-Action Letter.

[FR Doc. E5-8178 Filed 12-30-05; 8:45 am]

BILLING CODE 6717-01-P